PATENT AND TRADEMARK OFFICE

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Trademark Processing (proposed rulemaking, Electronic Submission of Applications for Registration and Other Documents).

Form Number(s): PTO Form 4.8/4.9/4.16/1478/1478(a)/1553/1581/1583/ 1963/2000, PTO/TM/4.16/1583.

Agency Approval Number: 0651-0009.

Type of Request: Revision of a currently approved collection.

Burden: 137,030 hours annually.

Number of Respondents: 677,151 responses per year.

Avg. Hours Per Response: The time needed to respond is estimated to range from 3 to 30 minutes. It is estimated that the time needed to complete the electronic forms ranges from 4 to 21 minutes, and the time needed to complete the paper forms with the declaration ranges from 6 to 24 minutes. The information collection also includes four items, namely, powers of attorney, designations of domestic representatives, trademark amendments/corrections/surrenders, and petitions to revive abandoned applications, for which forms have not been created and which are not subject to the proposed mandatory electronic filing rule. The USPTO estimates that completing these items ranges from 3 to 30 minutes. The time estimates include time to gather the necessary information, create the documents, and submit the completed requests.

Needs and Uses: This collection is being submitted as a proposed addition in support of a proposed rulemaking, RIN 0651-AB31, “Electronic Submission of Applications for Registration and Other Documents.” The USPTO proposes to amend the Rules of Practice in Trademark Cases (37 CFR) to require electronic filing of all documents for which forms are currently available through the Trademark Electronic Application System (TEAS). Subject to certain exceptions for parties who lack access to TEAS or the technical capability to use TEAS, and for certain other parties, all documents for which an electronic form is available in TEAS must be filed through TEAS.

The USPTO proposes to amend §§ 1.4, 1.10, 2.21, 2.56, 2.76, 2.88, 2.89, 2.161, 2.166, 2.167 and 2.168 of 37 CFR parts 1 and 2 to make electronic filing through the TEAS system mandatory.

This rulemaking would add an additional requirement to this collection, namely an affidavit or declaration, if appropriate, that verifies that the applicant or registrant or the attorney, if any, for that applicant or registrant, lacks access to TEAS or the technical capability to use TEAS. Under the proposed rule, submissions that are made on paper but that could be made by TEAS and that are not accompanied by such an affidavit or declaration will be returned unless the party who made the submission is within the exception provided for certain foreign applicants and registrants.

Affected Public: Individuals or households; business or other for-profit; not-for-profit institutions; farms; the federal Government; and state, local or tribal Government.

Frequency: On occasion.

Respondent's Obligation: Required to obtain or retain benefits.

OMB Desk Officer: David Rostker, (202) 395-3897.

Copies of the above information collection proposal can be obtained by calling or writing Susan K. Brown, Records Officer, Office of Data Management, Data Administration Division, (703) 308-7400, USPTO, Suite 310, 2231 Crystal Drive, Washington, DC 20231, or by e-mail at susan.brown@uspto.gov.

Written comments and recommendations for the proposed collection should be sent on or before February 14, 2002 to David Rostker, OMB Desk Officer, Room 10202, New Executive Office Building, Washington, DC 20503.

Dated: January 9, 2002.
Susan K. Brown,
Records Officer, USPTO, Office of Data Management, Data Administration Division.

[FR Doc. 02-950 Filed 1-14-02; 8:45 am]

BILLING CODE 3510-16-P